DEPARTMENT OF LABOR

Employment and Training Administration

[TA-W-59,119]

Nanston, Inc. Dental Lab, Norcross, GA; Notice of Revised Determination on Reconsideration

By letter dated May 3, 2006 a petitioner requested administrative reconsideration regarding the Department's Negative Determination Regarding Eligibility to Apply for Worker Adjustment Assistance, applicable to the workers of the subject firm.

The initial investigation resulted in a negative determination signed on April 21, 2006 was based on the finding that imports of dentures, crowns and orthodontics work did not contribute importantly to worker separations at the subject plant and no shift of production to a foreign source occurred. The denial notice was published in the Federal Register on May 10, 2006 (71 FR 27291).

To support the request for reconsideration, the petitioner supplied additional information regarding the outsourcing of production of dentures, crowns and orthodontics by the subject firm and imports of like or directly competitive products with those produced at the subject firm.

A further contact with the company official revealed that the subject firm ceased production of dentures, crowns and orthodontics in order to outsource it to a domestic company which manufactures dentures, crowns and orthodontics abroad.

A survey of the outsourced company revealed that a high portion of the products supplied to the subject firm are manufactured abroad and those imports of dentures, crowns and orthodontics have increased significantly during the relevant time period. The investigation revealed that outsourcing of the production abroad and increased imports of dentures, crowns and orthodontics contributed importantly to the declines in production and employment at the subject firm.

In accordance with section 246 the Trade Act of 1974 (26 U.S.C. 2813), as amended, the Department of Labor herein presents the results of its investigation regarding certification of eligibility to apply for alternative trade adjustment assistance (ATAA) for older workers.

In order for the Department to issue a certification of eligibility to apply for ATAA, the group eligibility requirements of section 246 of the Trade Act must be met. The Department has determined in this case that the requirements of section 246 have been met.

A significant number of workers at the firm are age 50 or over and possess skills that are not easily transferable. Competitive conditions within the industry are adverse.

Conclusion

After careful review of the additional facts obtained on reconsideration, I conclude that increased imports of articles like or directly competitive with those produced at Nanston, Inc., Dental Lab, Norcross, Georgia, contributed importantly to the declines in sales or production and to the total or partial separation of workers at the subject firm. In accordance with the provisions of the Act, I make the following certification:

All workers of Nanston, Inc., Dental Lab, Norcross, Georgia who became totally or partially separated from employment on or after March 6, 2005 through two years from the date of this certification, are eligible to apply for adjustment assistance under section 223 of the Trade Act of 1974, and are eligible to apply for alternative trade adjustment assistance under section 246 of the Trade Act of 1974.

Signed in Washington, DC this 16th day of May 2006.
Elliott S. Kushner,
Certifying Officer, Division of Trade Adjustment Assistance.

[FR Doc. E6-8057 Filed 5-24-06; 8:45 am]

BILLING CODE 4510-30-P